ENVIRONMENTAL PROTECTION AGENCY

40 CFR Part 62

[MS-200301(b); FRL-7404-3]

Approval and Promulgation of State Plan for Designated Facilities and Pollutants; State of Mississippi

AGENCY: Environmental Protection Agency (EPA).

ACTION: Proposed rule.

SUMMARY: EPA is proposing to approve the small Municipal Waste Combustion (MWC) units section 111(d) negative declaration submitted by the State of Mississippi. This negative declaration certifies that small MWC units subject to the requirements of section 111(d) and 129 of the Clean Air Act (CAA) do not exist in Mississippi.

In the Final Rules Section of this Federal Register, the EPA is approving the State's submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before December 5, 2002.

ADDRESSES: Written comments should be addressed to Joydeb Majumder, at the EPA Regional Office listed below. The interested persons wanting to examine these documents should make an appointment with the appropriate office at least 24 hours before the visiting day. Copies of the documents relative to this action are available for public inspection during normal business hours at the following locations: EPA Region 4, Air Toxics and Monitoring Branch, Sam Nunn Atlanta Federal Center, 61 Forsyth Street, SW., Atlanta, Georgia 30303-8960.

FOR FURTHER INFORMATION CONTACT: Joydeb Majumder at (404) 562-9121 or Michele Notarianni at (404) 562-9031.

SUPPLEMENTARY INFORMATION: For additional information see the direct final rule which is published in the Final Rules Section of this Federal Register.

Dated: October 24, 2002.
A. Stanley Meiburg,
Acting Regional Administrator, Region 4.

[FR Doc. 02-28080 Filed 11-4-02; 8:45 am]

BILLING CODE 6560-50-P